FOREIGN CLAIMS SETTLEMENT COMMISSION

[F.C.S.C. Meeting and Hearing Notice No. 8-11]

Sunshine Act Meeting

The Foreign Claims Settlement Commission, pursuant to its regulations (45 CFR part 503.25) and the Government in the Sunshine Act (5 U.S.C. 552b), hereby gives notice in regard to the scheduling of open meetings as follows:

Wednesday, September 7, 2011: 3 p.m.—Issuance of Proposed Decisions in claims against Libya

Thursday, September 8, 2011: 10 a.m.—Oral hearings on objections to Commission's Proposed Decisions in Claim No. LIB-II-173; 11 a.m.—Claim Nos. LIB-II-067, LIB-II-068, LIB-II-069, LIB-II-070, LIB-II-071, LIB-II-072 and LIB-II-073; 12 noon—LIB-I-051

Status: Open.

All meetings are held at the Foreign Claims Settlement Commission, 600 E Street, NW., Washington, DC. Requests for information, or advance notices of intention to observe an open meeting, may be directed to: Judith H. Lock, Executive Officer, Foreign Claims Settlement Commission, 600 E Street, NW., Suite 6002, Washington, DC 20579. Telephone: (202) 616-6975.

Judith H. Lock,
Executive Officer.

[FR Doc. 2011-22140 Filed 8-25-11; 4:15 pm]

BILLING CODE 4410-BA-P